DEPARTMENT OF COMMERCE

National Oceanic and Atmospheric Administration

50 CFR Part 679

[Docket No. 101006495-0498-01]

RIN 0648-BA31

Fisheries of the Exclusive Economic Zone Off Alaska; Steller Sea Lion Protection Measures for the Bering Sea and Aleutian Islands Groundfish Fisheries Off Alaska; Correction

AGENCY: National Marine Fisheries Service (NMFS), National Oceanic and Atmospheric Administration (NOAA), Commerce.

ACTION: Correction to interim final rule.

SUMMARY: This document contains corrections to the interim final rule pertaining to Fisheries of the Exclusive Economic Zone Off Alaska; Steller Sea Lion Protection Measures for the Bering Sea and Aleutian Islands Groundfish Fisheries Off Alaska published on December 13, 2010. These corrections amend one error in the preamble to the interim final rule and one typographical error and content within regulatory tables to eliminate potential confusion by the public.

DATES: Effective January 1, 2011.

FOR FURTHER INFORMATION CONTACT: Melanie Brown, 907-586-7228.

SUPPLEMENTARY INFORMATION:

Background

An interim final rule was published in the Federal Register on December 13, 2010 (75 FR 77535), to implement Steller sea lion protection measures to ensure that the Bering Sea and Aleutian Islands management area (BSAI) groundfish fisheries off Alaska are not likely to jeopardize the continued existence of the western distinct population segment of Steller sea lions or adversely modify its designated critical habitat. NMFS is correcting errors identified in the preamble to the interim final rule and the regulatory text.

Classification

The Assistant Administrator for Fisheries, NOAA (AA), finds good cause pursuant to 5 U.S.C. 553(b)(B) to waive prior notice and the opportunity for public comment because it would be impracticable and contrary to the public interest. These errors should be corrected immediately to eliminate potential confusion by the regulated public. If the effective date for these corrections is delayed to solicit prior public comment, these technical errors will not be corrected by the effective date of this final rule, thereby undermining the conservation and management objectives of the Fishery Management Plan for Groundfish of the Bering Sea and Aleutian Islands Management Area. Good cause to waive prior notice and the opportunity for public comment for the interim final rule corrected by this action can be found in 75 FR 77535 (December 13, 2010).

The AA further finds, pursuant to 5 U.S.C 553(d)(3), good cause to waive the thirty (30) day delayed effectiveness period for the reasons stated above.

Summary of Errors

NMFS is correcting errors and is not making substantive changes to the interim final rule published on December 13, 2010 (75 FR 77535). The corrections to Tables 5, 6, and 12 to 50 CFR part 679 are listed below. These corrections revise coordinates for Steller sea lion sites, revise footnotes, add degree symbols, add lines between rows, and remove a 3-nm groundfish fishing closure in Table 12 to 50 CFR part 679, which was erroneously added by the interim final rule.

On page 77547, in Table 5 to part 679, seventh row (Great Sitkin I.), third column, we are replacing value “52 06.00 N” to read “52 06.60 N”; in the fourth column we are replacing value “176 10.50 W” to read “176 07.00 W”, and in the fifth column we are replacing value “52 06.60 N” to read “52 07.00 N”.

On page 77550, in Table 5 to part 679, first row (Bird I.), fourth column, we are replacing value “163 17.2 W” to read “163 17.15 W”; in the third row (South Rocks), fourth column, we are replacing value “162 41.3 W” to read “162 41.25 W”; in the fourth row (Clubbing Rocks (S)), fourth column, we are replacing value “162 26.7 W” to read “162 26.74 W”; and in the fifth row (Clubbing Rocks (N)), fourth column, we are replacing value “162 26.7 W” to read “162 26.72 W”.

On page 77552, in Table 5 to part 679, fourth row (Ushagat I./SW), third column, we are replacing value “58 54.75” to read “58 54.75 N”.

On page 77553, in Table 5 to part 679, third row (Rugged Island), we are adding value in the fifth column to read “59 51.00 N” and adding value in the sixth column to read “149 24.70 W”.

On page 77557, in Table 6 to part 679, footnote 6(a), we are replacing “0 nn” to read “0 nm”.

On page 77557, in Table 6 to part 679, footnote 7, we are replacing the second subparagraph “(a)” to read “(b)”.

On page 77558, in Table 12 to part 679, we are removing the sixteenth row (Tanaga I./Bumpy Pt.).

On page 77559, in Table 12 to part 679, fourteenth row (Clubbing Rocks (S)), fourth column, we are replacing value “162 26.7 W” to read “162 26.74 W”; and, in the fifteenth row (Clubbing Rocks (N)), fourth column, we are replacing value “162 26.7 W” to read “162 26.72 W”.

On page 77560, in Table 12 to part 679, second row (Choweit I.), fifth column, we are replacing value “55 00.30 N” to read “56 00.30 N”.

In addition to these regulatory corrections, we are correcting a statement in the preamble to the interim final rule (74 FR 77535, December 13, 2010) that incorrectly referenced existing Pacific cod trawl seasons. On page 77539, in the second column, correct the last sentence to read:

“Waters that are 10 nm to 20 nm from Steller sea lion sites and that occur in this one degree longitude area are closed to directed fishing for Pacific cod with trawl gear in the C season (June 10, 1200 hours, A.l.t., to November 1, 1200 hours, A.l.t.), but are open during the A and B seasons.”

List of Subjects in 50 CFR Part 679

Alaska, Fisheries, Reporting and recordkeeping requirements.

Dated: December 22, 2010.
Samuel D. Rauch III,
Deputy Assistant Administrator for Regulatory Programs, National Marine Fisheries Service.

Correction

Accordingly, the interim final rule, FR Doc. 2010-31226, published on December 13, 2010 (75 FR 77535), to be effective January 1, 2011, is corrected as follows:

§ 679.20 [Corrected]

1. In § 679.20, on page 77543, third column, instruction 5, first line, correct “§ 79.20” to read “§ 679.20”.

2. In 50 CFR part 679, on pages 77545 through 77560, correctly revise Tables 5, 6, and 12 to read as follows:

BILLING CODE 3510-22-P

[FR Doc. 2010-32654 Filed 12-28-10; 8:45 am]

BILLING CODE 3510-22-C